DEPARTMENT OF JUSTICE

Notice of Lodging of Proposed Consent Decree Under the Comprehensive Environmental Response, Compensation and Liability Act

On January 9, 2017, the Department of Justice lodged a proposed consent decree with the United States District Court for the Central District of California in the lawsuit entitled United States v. Estate of Dorothy Medore, Civil Action No. 5:17-cv-00029.

The consent decree would resolve claims against the Estate of Dorothy Medore under CERCLA § 107(a), 42 U.S.C. 9607(a), for recovery of response costs in connection with the Banaire Enterprises and Banaire Radium Trailers Superfund Sites in Cabazon, California (“Sites”). The Banaire Enterprises Site consists of two parcels located at 49800 Bonita Avenue and 14993 South Broadway. EPA found radioactive contamination at both parcels. The Banaire Radium Trailers Site is located at 4972 Main Street. Trailers on the property contained radioactive airplane parts and waste solvents. From September 2013 to April 2014, EPA performed a cleanup at both Sites. EPA's response costs through September 30, 2015, are $2,983,852.79. The United States alleges that the Medore Estate is liable for these costs because it is an owner of Site property.

The proposed Consent Decree with the Estate of Dorothy Medore would resolve the liability of the Estate by requiring the Estate to deposit an initial amount of $150,000 in an interest-bearing escrow account. Once the decree is entered, the amounts in escrow will be paid to the United States. The Estate also commits under the decree to inventory and appraise all remaining Estate property and to use best efforts to liquidate it. For real property, the Estate must provide EPA with notice of offers and EPA must approve the sale. If the Estate is not able to sell real property after using best efforts, the real property will be auctioned.

When all Estate property has been liquidated, and the proceeds placed in the Estate's bank account, the Estate will petition the California probate court for permission to distribute Net Proceeds to the United States in satisfaction of Past Response Costs. At least 30 days before filing the petition, the Estate will provide the United States with an accounting of the Estate's assets and its administration costs, including attorney's fees.

The publication of this notice opens a period for public comment on the proposed consent decree. Comments should be addressed to the Assistant Attorney General, Environment and Natural Resources Division, and should refer to United States v. Estate of Dorothy Medore, D.J. Ref. No. 90-11-3-10880. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $4.75 (25 cents per page reproduction cost) payable to the United States Treasury.

Henry Friedman,
Assistant Section Chief, Environmental Enforcement Section, Environment and Natural Resources Division.

[FR Doc. 2017-00712 Filed 1-12-17; 8:45 am]

BILLING CODE 4410-15-P